DEPARTMENT OF AGRICULTURE

Forest Service

Arapaho and Roosevelt National Forests and Pawnee National Grassland; Larimer County, CO; Middle Bald Mountain Public Safety Radio Communications Site

AGENCY: Forest Service, USDA.

ACTION: Notice of intent to prepare an environmental impact statement.

SUMMARY: The Arapaho and Roosevelt National Forests and Pawnee National Grassland is preparing an environmental impact statement to consider and disclose the environmental effects of constructing and operating a government-only, public safety radio communications facility near the summit of Middle Bald Mountain, in the Roosevelt National Forest. The Larimer County Sheriff's Office has proposed construction of a site to improve public safety radio communications among government agencies, such as County and State law enforcement, local fire departments, Larimer County Search and Rescue, U.S. Forest Service, FBI, and other emergency responders and public service providers operating in the north central portions of the County. The proposed communication facility would also improve radio communication in areas of the Cache la Poudre Canyon (the Canyon) and State Highway 14 which currently have poor or no radio communication.

DATES: Comments concerning the scope of the analysis must be received by October 29, 2012. The draft environmental impact statement is expected to be issued for public review in February, 2013, and the final environmental impact statement is expected to be issued in April, 2013.

ADDRESSES: Send written comments to Middle Bald Communication Site Comments, c/o Logan Simpson Design, 123 N. College Ave., Ste. 206, Fort Collins, CO 80524. Comments may also be sent via email to MiddleBald@logansimpson.com. Include “Middle Bald Comment” in the subject line.

FOR FURTHER INFORMATION CONTACT: Visit the Forest Service and County project Web sites, http://www.fs.usda.gov/goto/arp/middlebald and http://larimer.org/baldmountain/, or contact Carol Kruse, Special Projects Coordinator, at (970) 295-6663. Further information will also be available at two public open houses to be scheduled in early October; the exact dates, times, and locations will be announced locally.

Individuals who use telecommunication devices for the deaf (TDD) may call the Federal Information Relay Service (FIRS) at 1-800-877-8339 between 8 a.m. and 8 p.m., Eastern Time, Monday through Friday.

SUPPLEMENTARY INFORMATION:

Purpose and Need for Action

The purpose of and need for this action are to improve poor or non-existent VHF and 800 MHz radio coverage in the north central part of Larimer County, including Red Feather Lakes, Crystal Lakes, Glacier Meadows, the Canyon, State Highway 14, and in recreational areas in the Roosevelt National Forest. This lack of radio coverage also affects other public safety users, including local fire departments, FBI, Larimer County Search and Rescue, County Road and Bridge Department, the U.S. Forest Service, Colorado Department of Transportation, and the Colorado State Patrol. The principal land mobile radio system for Larimer County first responders is the 800 MHz State of Colorado Digital Trunked Radio System (DTRS); the County also operates a legacy VHF radio system.

The Forest Service has identified a need to provide reliable, all-weather, VHF and 800 MHz communications capabilities in north central Larimer County and in additional reaches of the Canyon that would allow fire and medical first-responders, law enforcement, and other government public safety and public service agencies to more-quickly and better assist the residents and recreational visitors during both emergency and routine incidents in those areas. The need was reinforced this summer during the Hewlett Gulch and High Park wildfires.

Installation of the proposed radio communications facility under the proposed action would meet the purpose and need by improving VHF and 800 MHz coverage and reliability in north central Larimer County and the Canyon for existing fire and medical first-responders, law enforcement, and other local, State, and Federal emergency and public services users of the VHF and 800 MHz radio systems.

Proposed Action

The proposed action is to construct a government-only public safety radio communications facility on Middle Bald Mountain for both VHF and 800 MHz communications equipment. On-the-ground testing of both VHF and 800 MHz radio signal coverage and signal strength indicates that a tower at that location would provide substantially improved VHF and 800 MHz coverage in northwestern Larimer County and in the Canyon. An approximately 70-foot high, 3-legged steel lattice tower and 200 square-foot building would hold equipment for use by Larimer County, local fire departments, the State of Colorado, the Forest Service, and search and rescue organizations.

During construction a 2,900-foot long and 10-foot wide access road passable by heavy construction vehicles would need to be built from National Forest Service Road (NFSR) 517 to the proposed site facilities near the summit. Post-construction, the access road could be rehabilitated to a level required by the Forest Service. Gates could be installed at the junction with NFSR 517 and where the access road exits treeline onto the open meadow of the Middle Bald Mountain summit, if required by the Forest Service.

Power for the communication facility would be provided by extension of the commercial electrical power grid from a location in Section 32, Township 10 North and Range 73 West. The approximately 12-mile long powerline would be installed overhead beginning in the Redfeather Lakes area, alongside County Road 162 (Deadman Road) to NFSR 300, alongside NFSR 300 to NFSR 517, alongside NFSR 517 to the point at which the proposed access road would leave NFSR 517, and alongside the access road to the point at which the access road exits the trees into the open meadow of the summit. From that point the powerline would be buried under the access road to the communication facilities. The proposed facility would include a backup 20 kilowatt diesel generator for use in the event of interruption of commercial power.

It is anticipated that facility construction would take three to four months and would occur in a single summer season.

Possible Alternatives

The Environmental Impact Statement will analyze the proposed action, No Action (no communication site on Middle Bald Mountain), and other action alternatives that may be developed after scoping. Other action alternatives could consider alternative power sources, powerline alignments, and installation methods; alternative access road alignments and designs; alternative building designs; and alternative site locations for the tower and building near the summit of Middle Bald Mountain.

Responsible Official

The responsible official is the Forest Supervisor for the Arapaho and Roosevelt National Forests and Pawnee National Grassland.

Nature of Decision To Be Made

The responsible official will decide whether or not to permit the proposed action or other action alternative that may be developed by the Forest Service as a result of scoping.

Permits or Licenses Required

A Special Use permit from the Forest Service would be required to implement the proposal or other action alternative that may be developed by the Forest Service after scoping. A non-significant Forest Plan amendment would also be necessary if the decision is to permit a communication site on Middle Bald Mountain.

Scoping Process

This notice of intent initiates the scoping process, which guides the development of the environmental impact statement. The Forest Service is soliciting comments from Federal, State, and local agencies, and other individuals or organizations who may be interested in or affected by implementation of the proposed project. Input provided by interested and/or affected individuals, organizations, and governmental agencies will be used to identify resource issues that will be analyzed in the Draft EIS. The Forest Service will identify key issues raised during the scoping process and use them to formulate alternatives, prescribe mitigation measures and project design features, and analyze environmental effects.

It is important that reviewers provide their comments at such times and in such a manner that they are useful to the agency's preparation of the environmental impact statement. Therefore, comments should be provided prior to the close of the comment period and should clearly articulate the reviewer's concerns and contentions. There will be two public open houses approximately three weeks into the scoping period, at which written public comments will be accepted. Those meeting dates, times, and locations will be announced locally.

Comments received in response to this solicitation, including names and addresses of those who comment, will be part of the public record for this proposed action. Comments submitted anonymously will be accepted and considered.

Dated: September 5, 2012.
Glenn P. Casamassa,
Forest Supervisor.

[FR Doc. 2012-22366 Filed 9-13-12; 8:45 am]

BILLING CODE 3410-11-P